DEPARTMENT OF LABOR

Bureau of Labor Statistics

Data Users Advisory Committee; Notice of Meeting and Agenda

The Bureau of Labor Statistics Data Users Advisory Committee will meet on Wednesday, November 12, 2014. The meeting will be held in the Postal Square Building, 2 Massachusetts Avenue NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m. Registration

9:00 a.m. Commissioner's welcome and review of agency developments

9:45 a.m. Disease Based Concepts for Published Medical Statistics

11:00 a.m. Responding to Customers' needs: Redesigning the Occupational Outlook Handbook and the Occupational Outlook Quarterly

1:30 p.m. Topics at a Glance

2:00 p.m. Measurement of household relationships in BLS statistical surveys

3:00 p.m. IT-related suggestions from the DOL/BLS media round-table

3:30 p.m. Feedback on the Office of Productivity's Users Guide

4:00 p.m. Update on perturbed data

4:30 p.m. Future topics and meeting wrap-up

The meeting is open to the public. Any questions concerning the meeting should be directed to Kathy Mele, Data Users Advisory Committee, on 202.691.6102. Individuals who require special accommodations should contact Ms. Mele at least two days prior to the meeting date.

Signed at Washington, DC, this 9th day of October 2014.
Kimberley D. Hill,
Chief, Division of Management Systems, Bureau of Labor Statistics.

[FR Doc. 2014-25341 Filed 10-23-14; 8:45 am]

BILLING CODE 4510-24-P